DEPARTMENT OF AGRICULTURE

Forest Service

Lost River and Challis Ranger Districts, Salmon-Challis National Forest; Idaho; Lost River/Lemhi Grazing Allotments Environmental Impact Statement

AGENCY: Forest Service, USDA.

ACTION: Notice of intent to prepare an environmental impact statement.

SUMMARY: The Lost River and Challis Ranger Districts propose to update the livestock grazing plans for twenty-one grazing allotments. These include fifteen Cattle and Horse grazing allotments and five Sheep and Goat grazing allotments on the Lost River Ranger District and one Sheep and Goat grazing allotment on the Challis Ranger District. The allotments are located in the Lost River and Lemhi Mountain Ranges and are within a 35-mile radius of Mackay, Idaho.

DATES: Comments concerning the scope of the analysis must be received by September 5, 2003. The draft environmental impact statement is expected January 2005 and the final environmental impact statement is expected May 2005.

ADDRESSES: Send written comments to Tony Beke, Planning, Salmon-Challis National Forest, 50 Hwy 93 South, Salmon, Idaho 83467.

For further information, mail correspondence to Tony Beke, Planning, Salmon-Challis National Forest, 50 Hwy 93 South, Salmon, Idaho 83467, or e-mail, tbeke@fs.fed.us.

A public meeting will be conducted at the Arco-Butte Business Center, 159 N Idaho, Arco, Idaho on August 19, 2003 starting at 6 p.m.

FOR FURTHER INFORMATION CONTACT: Tony Beke, Civil Engineer, Salmon-Challis National Forest, USDA Forest Service (see address above).

SUPPLEMENTARY INFORMATION:

Purpose and Need for Action

This proposal, in part, is to comply with Public Law 104-19, Section 504(a): establish and adhere to a schedule for the completion of National Environmental Policy Act (NEPA) of 1969 (42 U.S.C. 4321 et seq.) analysis and decision on all grazing allotments within the National Forest System unit for which NEPA is needed (Pub. L. 104-19, General Provision 1995). Upon completion of the NEPA analysis and decisions for the allotments, the terms and conditions of existing grazing permits will be modified, as necessary, to conform to such NEPA analysis. In addition, the purpose of the proposed action is to improve range condition and trend and achieve desired conditions within the project area through livestock grazing.

Proposed Action

The proposed action is to authorize continued livestock grazing, provide analysis and data to update allotment management plans (AMPs), and allow permitted livestock grazing that meets or moves existing resource conditions toward desired conditions on national forest grazing allotments while complying with applicable statutes. Adaptive management, which allows flexibility during the implementation of the grazing strategy, would allow managers to make adjustments and corrections to management based on monitoring. Three of the five Sheep and Goat grazing allotments in the Lost River Mountain Range are proposed to be converted to Cattle and Horse grazing allotments to resolve conflicts between domestic and bighorn sheep, if this use is determined to be appropriate. Range improvements may be necessary to make this conversion. The conflict between domestic and bighorn sheep is a virus that can be transmitted from domestic sheep if they come in contact with bighorn sheep. A forest plan amendment will be necessary to modify management direction for range management within Management Area 16, Borah Peak.

Possible Alternatives

No Grazing and No Action alternatives will be analyzed to the proposed action during the NEPA process. The No Grazing alternative would eliminate domestic livestock grazing on allotments. The No Action alternative would allow continued livestock grazing as it is currently being managed. Other alternatives, arising from issues identified through scoping, could be analyzed as well.

Responsible Official

George Matejko, Forest Supervisor, 50 Hwy 93 South, Salmon, ID 83467.

Nature of Decision To Be Made

The Forest Supervisor will decide whether to authorize continued livestock grazing on the allotments' suitable rangelands in accordance with the standards in the proposed action or as modified by additional mitigation measures and monitoring requirements. The proposed action, or as modified by this analysis, will require a Forest Land and Resource Management Plan Amendment.

Scoping Process

This analysis is for twenty-one grazing allotments. The decision will have limited environmental effects outside the allotment boundaries, and the economic impacts are localized. Scoping will include:

• Review scoping comments from previous efforts

• Publish notice in the Challis Messenger and Salmon Recorder Herald, the newspapers of record, and the Arco Advertiser, another local newspaper, announcing the public meeting and requesting comments

• Mail scoping letters to interested public and grazing permittees describing the proposed action and preliminary issues

• Conduct public meeting in Arco, Idaho on August 19, 2003

• Notify consulting agencies and request comments

• Publish in the Quarterly Schedule of Proposed Actions (SOPA) notice and mail to interested individuals and groups, and put on the Forest's internet site

• Contact and consult with the Shoshone-Bannock Tribes

A public meeting is scheduled for August 19, 2003 at 6 p.m. at the Arco-Butte Business Center, 159 N Idaho, Arco, Idaho.

Preliminary Issues

Concerns identified internally and from previous scoping include:

• Riparian and aquatic habitat

• Terrestrial wildlife

• Effects to other Forest users

• Effects on vegetation structure and composition

• Tribal Treaty Rights

Comment Requested

This notice of intent initiates the scoping process which guides the development of the environmental impact statement. Substantive comments and objections to the proposed action will be considered during this analysis.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: July 24, 2003.
Lyle E. Powers,
Acting Forest Supervisor.

[FR Doc. 03-19481 Filed 7-30-03; 8:45 am]

BILLING CODE 3410-11-P